FEDERAL COMMUNICATIONS COMMISSION

47 CFR Part 73

[DA 01-2679; MM Docket No. 01-12; RM-10039]

Radio Broadcasting Services; Arthur, ND

AGENCY: Federal Communications Commission.

ACTION: Final rule.

SUMMARY: The Commission, at the request of Vision Media, Incorporated, substitutes Channel 280A for Channel 244A at Arthur, North Dakota, and modifies Station WVMI(FM)'s license accordingly. See 66 FR 8559, February 1, 2001. Channel 280A can be allotted to Arthur in compliance with the Commission's minimum distance separation requirements with site restriction of 6.35 kilometers (3.94 miles) west at petitioner's requested site. The coordinates for Channel 280A at Arthur are 47-05-42 North Latitude and 97-18-01 West Longitude.

DATES: Effective December 31, 2001.

FOR FURTHER INFORMATION CONTACT: Sharon P. McDonald, Mass Media Bureau, (202) 418-2180.

SUPPLEMENTARY INFORMATION: This is a synopsis of the Commission's Report and Order, MM Docket No. 01-12, adopted November 7, 001, and released November 16, 2001. The full text of this Commission decision is available for inspection and copying during normal business hours in the FCC Reference Information Center (Room CY-A257), 445 12th Street, SW., Washington, DC. The complete text of this decision may also be purchased from the Commission's copy contractors, Qualex International, Portals II, 445 12th Street, SW, Room CY-B-402, Washington, DC 20554.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under North Dakota, is amended by adding Channel 280A and removing Channel 244A at Arthur.

Federal Communications Commission.
John A. Karousos,
Chief, Allocations Branch, Policy and Rules Division, Mass Media Bureau.

[FR Doc. 01-29872 Filed 11-30-01; 8:45 am]

BILLING CODE 6712-01-P